DEPARTMENT OF HOUSING AND URBAN DEVELOPMENT

[Docket No. FR-6602-N-01]

Summit Lake Formula Area Expansion

ACTION: Notice.

SUMMARY: This notice advises the public of HUD's final determination on the Summit Lake Paiute Tribe's request to expand its formula area under the Indian Housing Block Grant (IHBG) program. Consistent with IHBG program regulations, HUD is announcing its final determination to expand the Summit Lake Paiute Tribe's formula area to include the balance of Humboldt County, Washoe County, Storey County, Pershing County, Churchill County, Douglas County, Mineral County, Lyon County, Esmeralda County, Clark County, Nye County, and Carson City County in the state of Nevada, for fiscal year 2026.

DATES: HUD's final determination is effective January 30, 2026.

FOR FURTHER INFORMATION CONTACT: Erna F. Reeves, Director, Office of Grants Management, Office of Native American Programs, Department of Housing and Urban Development, 451 Seventh Street SW, Room 4108, Washington, DC 20410, telephone 202-401-7914 (this is not a toll-free number). HUD welcomes and is prepared to receive calls from individuals who are deaf or hard of hearing, as well as individuals with speech or communication disabilities. To learn more about how to make an accessible telephone call, please visit: https://www.fcc.gov/consumers/guides/telecommunications-relay-service-trs.

SUPPLEMENTARY INFORMATION: The IHBG program allocation formula is authorized by section 302 of the Native American Housing Assistance and Self Determination Act of 1996 (25 U.S.C. 4101 et seq.) (NAHASDA). In accordance with 24 CFR part 1000, funds appropriated by Congress for the IHBG program are made available to eligible grant recipients by formula to ensure the equitable and fair distribution of funds. The formula has four components including Need. Need is calculated using the seven factors listed at 24 CFR 1000.324, each based on a tribe's formula area. Should a tribe's formula area overlap with one or more other Indian Tribes, 24 CFR 1000.326 provides the procedure HUD will use to resolve potential or actual issues arising from the overlap. On August 1, 2025, the Summit Lake Paiute Tribe requested that its formula area be expanded to cover the balance of Humboldt County, Washoe County, Storey County, Pershing County, Churchill County, Douglas County, Mineral County, Lyon County, Esmeralda County, Clark County, and Nye County in the state of Nevada based on the Department of the Interior's Near Reservation Service Area Designation as listed in the Federal Register (FR Vol. 48, No. 174, September 7, 1983), and Carson City County in the state of Nevada based on the Department of the Interior's Near Reservation Service Area Designation as listed in the Federal Register (FR Vol. 60, No. 165, August 25, 1995). On August 13, 2025, HUD informed the Summit Lake Paiute Tribe of its preliminary decision to increase the formula area to include the balance of Humboldt County, Washoe County, Storey County, Pershing County, Churchill County, Douglas County, Mineral County, Lyon County, Esmeralda County, Clark County, Nye County, and Carson City County based on the Near Reservation Service Area Designations. Overlapping formula areas were created between the Summit Lake Paiute Tribe, Confederated Tribes of the Goshute Reservation, Duck Valley Shoshone-Paiute Tribes, Duckwater Shoshone Tribe, Ely Shoshone Tribe, Fallon Paiute Tribe, Fort McDermitt Paiute and Shoshone Tribes, Lovelock Paiute Tribe, Pyramid Lake Paiute Tribe, Reno-Sparks Indian Colony, Walker River Paiute Tribe, Washoe Tribe, Yerington Paiute Tribe, and Yomba Shoshone Tribe, as a result of this decision.

Whenever Tribes have overlapping formula areas, the Needs data for all the individual areas for all Tribes are combined and then apportioned among the Tribes in the overlap as outlined in 24 CFR 1000.326. Consistent with 24 CFR 1000.302, HUD is required to notify the affected Indian Tribes by certified mail and provide the Tribes with opportunity to comment for a period of not less than 90 days. HUD met this requirement with its August 13, 2025 letter to the Confederated Tribes of the Goshute Reservation, Duck Valley Shoshone-Paiute Tribes, Duckwater Shoshone Tribe, Ely Shoshone Tribe, Fallon Paiute Tribe, Fort McDermitt Paiute and Shoshone Tribes, Lovelock Paiute Tribe, Pyramid Lake Paiute Tribe, Reno-Sparks Indian Colony, Walker River Paiute Tribe, Washoe Tribe, Yerington Paiute Tribe, and Yomba Shoshone Tribe.

Consistent with 24 CFR 1000.302, HUD must consider all comments received on its preliminary determination and publish the notice of final determination in the Federal Register. Because HUD provided notification to the affected Tribes on August 13, 2025, the 90-day period for affected Tribes to comment on the preliminary determination elapsed on November 11, 2025. HUD did not receive comments or feedback from the affected Indian Tribes on its preliminary determination within this 90-day period. Consequently, HUD is providing notice of its final determination to increase the formula area of the Summit Lake Paiute Tribe's to include the balance of Humboldt County, Washoe County, Storey County, Pershing County, Churchill County, Douglas County, Mineral County, Lyon County, Esmeralda County, Clark County, Nye County, and Carson City County in the state of Nevada, for fiscal year 2026.

Hilary Atkin,
Acting Deputy Assistant Secretary for Office of Native American Programs, Office of Public and Indian Housing.

[FR Doc. 2026-01867 Filed 1-29-26; 8:45 am]

BILLING CODE 4210-67-P